DEPARTMENT OF HEALTH AND HUMAN SERVICES

Centers for Disease Control and Prevention

Disease, Disability, and Injury Prevention and Control Special Emphasis Panel (SEP): Initial Review

The meeting announced below concerns Health Promotion and Disease Prevention Research Centers, Funding Opportunity Announcement (FOA) DP14-001, initial review.

In accordance with Section 10(a)(2) of the Federal Advisory Committee Act (Pub. L. 92-463), the Centers for Disease Control and Prevention (CDC) announces the aforementioned meeting:

Times and Dates

8 a.m.-6:30 p.m., November 18, 2013 (Closed)

8 a.m.-6:30 p.m., November 19, 2013 (Closed)

8 a.m.-6:30 p.m., November 20, 2013 (Closed)

8 a.m.-6:30 p.m., November 21, 2013 (Closed)

Place: Centers for Disease Control and Prevention, 1600 Clifton Road NE., Global Communications Center, Auditorium B, Atlanta, Georgia 30333.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of “Health Promotion and Disease Prevention Research Centers, FOA DP14-001”.

For Further Information Contact: M. Chris Langub, Ph.D., Scientific Review Officer, CDC, 4770 Buford Highway NE., Mailstop F-80, Atlanta, Georgia 30341, Telephone: (770) 488-3585, Email: EEO6@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-24067 Filed 10-1-13; 8:45 am]

BILLING CODE 4163-18-P